DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office at (301) 443-1129.

The following request has been submitted to the Office of Management and Budget for review under the Paperwork Reduction Act of 1995:

Proposed Project: Children's Hospitals Graduate Medical Education Payment Program (CHGME Payment Program) (OMB No. 0915-0247)—Extension

The CHGME Payment Program was enacted by Public Law 106-129 and reauthorized by Public Law 109-307 to provide Federal support for graduate medical education (GME) to freestanding children's hospitals. This legislation attempts to provide support for GME comparable to the level of Medicare GME support received by other, non-children's hospitals. The legislation indicates that eligible children's hospitals will receive payments for both direct and indirect medical education. Direct payments are designed to offset the expenses associated with operating approved graduate medical residency training programs and indirect payments are designed to compensate hospitals for expenses associated with the treatment of more severely ill patients and the additional costs relating to teaching residents in such programs.

Data are collected on the number of full-time equivalent residents in applicant children's hospitals' training programs to determine the amount of direct and indirect medical education payments to be distributed to participating children's hospitals. Indirect medical education payments will also be derived from a formula that requires the reporting of discharges, beds, and case mix index information from participating children's hospitals. Hospitals will be requested to submit such information in an annual application. Hospitals will also be requested to submit data on the number of full-time equivalent residents a second time during the Federal fiscal year to participate in the reconciliation payment process.

The estimated annual burden is as follows:

Form name | Number of respondents | Responses per respondent | Total number of responses | Hours per response | Total burden hours
HRSA 99-1 (Initial) | 60 | 1 | 60 | 24.67 | 1,480.2
HRSA 99-1 (Reconciliation) | 60 | 1 | 60 | 6 | 360
HRSA 99-2 (Initial) | 60 | 1 | 60 | 11.33 | 679.8
HRSA 99-2 (Reconciliation) | 60 | 1 | 60 | 3.67 | 220.2
HRSA 99-3 (Initial) | 60 | 1 | 60 | 0.5 | 30
HRSA 99-3 (Reconciliation) | 60 | 1 | 60 | 0.5 | 30
HRSA 99-4 (Reconciliation) | 60 | 1 | 60 | 11 | 660
HRSA 99-5 (Initial) | 60 | 1 | 60 | 0.33 | 19.8
HRSA 99-5 (Reconciliation) | 60 | 1 | 60 | 0.33 | 19.8
Total | 60 |  | 60 |  | 3,499.8

Written comments and recommendations concerning the proposed information collection should be sent within 30 days of this notice to the desk officer for HRSA, either by e-mail to OIRA_submission@omb.eop.gov or by fax to 202-395-6974. Please direct all correspondence to the “attention of the desk officer for HRSA.”

Dated: January 27, 2010.
Sahira Rafiullah,
Deputy Director, Division of Policy Review and Coordination.

[FR Doc. 2010-2245 Filed 2-2-10; 8:45 am]

BILLING CODE 4165-15-P